COMMODITY FUTURES TRADING COMMISSION

New York Cotton Exchange (NYCE): Proposed Amendments to the NYCE Cotton No. 2 Futures Contract

Correction

In notice document 01-6868 beginning on page 15699 in the issue of Tuesday, March 20, 2001, make the following correction:

On page 15700, in the first column, in the third line, “rice” should be “price”.

[FR Doc. C1-6868 Filed 3-27-01; 8:45 am]

BILLING CODE 1505-01-D